DEPARTMENT OF HOUSING AND URBAN DEVELOPMENT

[Docket No. FR-4736-N-18]

Notice of Proposed Information Collection for Public Comment—Public Housing Drug Elimination Program Formula Allocation: Plan, Consultation, Reporting Resident Survey

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: February 24, 2003.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4249, Washington, DC 20410-5000.

FOR FURTHER INFORMATION CONTACT: Mildred M. Hamman, (202) 708-0614, extension 4128. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Drug Elimination Program Formula Allocation: Plan, Consultation, Reporting Resident Survey.

OMB Control Number: 2577-0124.

Description of the need for the information and proposed use: To continue to expend existing funding, each PHDEP recipient must submit to HUD a plan for addressing the problem of drug related and violent crime in and around the housing covered by the plan. In accordance with 24 CFR 761.35, recipients are required to evaluate and report on its performance with the plan.

Agency form numbers, if applicable: None.

Members of affected public: State or Local Government; Individuals or households; Not for profit institutions.

Estimation of the total number of hours needed to pare the information collection including number of respondents, frequency of response, and hours of response: 1,085 respondents, annually, 87 average hours per response, total reporting burden 94,395 hours. These hours reflect current requirements. Particularly in view of Congress' decision not to fund PHDEP in FY 2002, HUD is reviewing proposals to substantially streamline reporting requirements.

Status of the proposed information collection: Reinstatement, without change.

Authority: Section 3506 of the paperwork Reduction Act of 1995, 44 U.S.C. Chapter 35, as amended.

Dated: December 18, 2002.
Michael Liu,
Assistant Secretary for Public and Indian Housing.

[FR Doc. 02-32439 Filed 12-24-02; 8:45 am]

BILLING CODE 4210-33-M